DEPARTMENT OF TRANSPORTATION

Federal Aviation Administration

14 CFR Part 25

[Docket No. FAA-2014-0239; Notice No. 25-545-SC]

Special Conditions: Dassault Aviation, Falcon 2000/2000EX Series Airplanes; Fire Containment Containers

AGENCY: Federal Aviation Administration (FAA), DOT.

ACTION: Final Special Conditions; Request for Comments.

SUMMARY: These special conditions are issued for the Dassault Aviation Falcon 2000/2000EX series airplanes. These airplanes will have a novel or unusual design feature associated with the installation of removable storage lockers (fire containment containers) to be installed in the forward servicing compartment, which is un-pressurized, and not accessible in flight. The applicable airworthiness regulations do not contain adequate or appropriate safety standards for this design feature. These special conditions contain the additional safety standards that the Administrator considers necessary to establish a level of safety equivalent to that established by the existing airworthiness standards.

DATES: The effective date of these special conditions is June 6, 2014. We must receive your comments by July 7, 2014.

ADDRESSES: Send comments identified by docket number FAA-2014-0239 using any of the following methods:

• Federal eRegulations Portal: Go to http://www.regulations.gov/ and follow the online instructions for sending your comments electronically.

• Mail: Send comments to Docket Operations, M-30, U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except federal holidays.

• Fax: Fax comments to Docket Operations at 202-493-2251.

Privacy: The FAA will post all comments it receives, without change, to http://www.regulations.gov/, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov/.

Docket: Background documents or comments received may be read at http://www.regulations.gov/ at any time. Follow the online instructions for accessing the docket or go to the Docket Operations in Room W12-140 of the West Building Ground Floor at 1200 New Jersey Avenue SE., Washington, DC, between 9 a.m. and 5 p.m., Monday through Friday, except federal holidays.

FOR FURTHER INFORMATION CONTACT: Stephen Happenny, FAA, Propulsion and Mechanical Systems Branch, ANM-112, Transport Airplane Directorate, Aircraft Certification Service, 1601 Lind Avenue SW., Renton, Washington 98057-3356; telephone 425-227-2147; facsimile 425-227-1149.

SUPPLEMENTARY INFORMATION: The FAA has determined that notice of, and opportunity for prior public comment on, these special conditions are impracticable because these procedures would significantly delay issuance of the design approval and thus delivery of the affected aircraft. The FAA therefore finds that good cause exists for making these special conditions effective upon publication in the Federal Register.

Comments Invited

We invite interested people to take part in this rulemaking by sending written comments, data, or views. The most helpful comments reference a specific portion of the special conditions, explain the reason for any recommended change, and include supporting data.

We will consider all comments we receive on or before the closing date for comments. We may change these special conditions based on the comments we receive.

Background

On November 30, 2011, Dassault Aviation applied for a change to Type Certificate No. A50NM for the installation of removable storage lockers of two possible sizes (approximately 6.9 and 8.1 cubic feet in volume) in the forward servicing compartment (FSC) of the Falcon 2000/2000EX series airplanes. The Falcon 2000/2000EX are business-class airplanes powered by two turbofan engines, designed for a maximum of 21 occupants, with a maximum takeoff weight of 36,500 pounds for the Falcon 2000 and 42,800 pounds for the Falcon 2000EX.

The FSC is an un-pressurized compartment that is not accessible in flight. It is accessible on the ground from a lockable external door located in the lower aft fuselage. The removable storage lockers (fire containment containers) that will be installed in the FSC will be used mainly for stowage of items to support airplane operations such as the tow bar, ladder, fly-away kit/Electronic Control Unit cover, tool box, and limited passenger items (i.e., golf clubs/golf bags, skis/ski bags). The existing regulations do not adequately address small, inaccessible cargo compartments of this type and function. These special conditions are necessary to ensure a level of safety equivalent to that provided by existing regulations.

Type Certification Basis

Under the provisions of Title 14, Code of Federal Regulations (14 CFR) 21.101, Dassault Aviation must show that the Falcon 2000/2000EX series airplanes, as changed, continue to meet the applicable provisions of the regulations incorporated by reference in Type Certificate No. A50NM or the applicable regulations in effect on the date of application for the change. The regulations incorporated by reference in the type certificate are commonly referred to as the “original type certification basis.” The regulations incorporated by reference in Type Certification No. A50NM are as follows: 14 CFR part 25, as amended by Amendments 25-1 through 25-69 for the Falcon 2000 and 25-1 through 25-98 for the Falcon 2000EX, and 14 CFR part 26, as amended by Amendments 26-1 through 26-6. Dassault Aviation also elects to comply with §§ 25.855, 25.857, and 25.601 through Amendment 25-123, effective December 10, 2007.

If the Administrator finds that the applicable airworthiness regulations (i.e., 14 CFR part 25) do not contain adequate or appropriate safety standards for the Falcon 2000/2000EX series airplanes because of a novel or unusual design feature, special conditions are prescribed under the provisions of § 21.16.

Special conditions are initially applicable to the model for which they are issued. Should the type certificate for that model be amended later to include any other model that incorporates the same or similar novel or unusual design feature, or should any other model already included on the same type certificate be modified to incorporate the same novel or unusual design feature, the special conditions would also apply to the other model.

In addition to the applicable airworthiness regulations and special conditions, the Falcon 2000/2000EX series airplanes must comply with the fuel vent and exhaust emission requirements of 14 CFR part 34 and the noise certification requirements of 14 CFR part 36.

The FAA issues special conditions, as defined in 14 CFR 11.19, in accordance with § 11.38, and they become part of the type certification basis under § 21.101.

Novel or Unusual Design Features

The Falcon 2000/2000EX series airplanes will incorporate the following novel or unusual design feature: Removable storage lockers (fire containment containers) installed in the forward servicing compartment (FSC). The FSC is un-pressurized and not accessible in flight; it is accessible on the ground from a lockable, external door located in the lower aft fuselage. The FSC area is designed to host several critical systems; therefore, considering past experience on cargo loading, appropriate design and procedures must be in place to ensure safe installation.

Discussion

Sections 25.855 provides the design and test requirements for cargo compartments, and § 25.857 describes cargo compartment classifications. The removable storage lockers to be installed in the Falcon 2000/2000EX do not meet any of the existing FAA cargo compartment classifications of cargo compartments and, therefore, would not meet all of the requirements of §§ 25.855 and 25.857.

The European Aviation Safety Agency (EASA) determined that the installation of removable storage lockers in the FSC, except the tow bar and the maintenance ladder stowage, is not compliant with their corresponding Joint Aviation Regulations (JAR) 25.855 and 25.857. EASA's position is that the proposed design and configuration corresponds most closely to, but does not fully meet, a Class F cargo compartment classification defined in their Certification Specifications (CS) 25.857(f) at Amendment 11 in the Fire Containment Container (FCC) option. Class F cargo compartments are further detailed in their Acceptable Means of Compliance (AMC) to CS 25.857(f). FAA is in the rulemaking process of incorporating similar regulations into 14 CFR part 25, and we concur with EASA findings.

EASA proposed special conditions for the approval of these installations. The FAA reviewed the proposed special conditions and determined that they are functionally equivalent to what we would have issued, and that they provide an acceptable level of safety as related to fire containment containers and the requirements of §§ 25.601, 25.855, and 25.857. The FAA finding was based in part on consideration that the proposed containers are not intended to be used for “cargo for hire” or carriage of oxygen or oxygen producing equipment; the container is not intended to be used for carriage of flammable fluids; and, the container is not intended to be used for carriage of more typical passenger/crew baggage, only for the carriage of passenger ski and golf equipment.

Applicability

As discussed above, these special conditions are applicable to the Dassault Aviation Falcon 2000/2000EX series airplanes. Should Dassault Aviation apply at a later date for a change to the type certificate to include another model incorporating the same novel or unusual design feature, the special conditions would apply to that model as well.

Conclusion

This action affects only certain novel or unusual design features on two model series of airplanes. It is not a rule of general applicability.

Under standard practice, the effective date of final special conditions would be 30 days after the date of publication in the Federal Register; however, as the certification date for the Dassault Falcon 2000/2000EX series airplanes is imminent, the FAA finds that good cause exists to make these special conditions effective upon publication in the Federal Register.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Dassault Aviation Falcon 2000/2000EX series airplanes.

Fire Containment Containers

1. In order to be acceptable, a container to be placed in the aft unpressurized compartment must comply with the following:

a. The container must be constructed of materials compliant with 14 CFR part 25, appendix F, part III and be sufficiently durable to withstand in-service conditions.

b. It must be demonstrated by test that the container is capable of containing a wide range of internal fire threats, for any period of time, while ensuring that adjacent systems, structure, and occupied areas are protected from the effects of smoke, flames, extinguishing agent, heat, or any other adverse effect. It must also be demonstrated that damage to the airplane's systems or structure cannot be caused by the use of the container.

c. The Operating Limitations section of the Airplane Flight Manual must contain a content limitation, approved by the FAA and justified on the base of operational need and demonstrated low-fire risk. The content limitation must:

• Require that any fire containment container be clearly identified with placards on the container and in the compartment hosting the container;

• Be reflected on any weight and balance or other document used to load the airplane; and

• Include easy-to-follow procedures for loading, installation, and de-installation of the container, e.g., airplane flight crew verification of content before every flight, installation/de-installation only by qualified personnel, etc.

Issued in Renton, Washington, on April 4, 2014.
Jeffrey E. Duven,
Manager, Transport Airplane Directorate, Aircraft Certification Service.

[FR Doc. 2014-13239 Filed 6-5-14; 8:45 am]

BILLING CODE 4910-13-P